NATIONAL SCIENCE FOUNDATION

Advisory Panel for Economics, Decision and Management Sciences; Notice of Meeting

In accordance with the Federal Advisory Committee Act (Pub L. 92-463, as amended), the National Science Foundation (NSF) announces the following meetings of the Advisory Panel for Economics, Decision, Risk and Management Sciences and Innovation and Organization Change (#1759):

Date & Time: November 10-11, 2000; 9 a.m. to 5 p.m.

Room: 920-970.

Place: National Science Foundation, 4201 Wilson Boulevard, Arlington, VA 22230.

Contact Person: Dan Newlon, Program Director for Economics, National Science Foundation, 4201 Wilson Boulevard, Suite 995, Arlington, VA 22230. Telephone: (703) 292-7276.

Agenda: To review and evaluate Economics proposals as part of the selection process for awards.

Date & Time: October 30-31, 2000; 9 a.m. to 5 p.m.

Room: 970.

Place: National Science Foundation, 4201 Wilson Boulevard, Arlington, VA 22230.

Contact Person: Ann Bostrom, Program Director for Decision, Risk & Management Sciences (DRMS), National Science Foundation, 4201 Wilson Boulevard, Suite 995, Arlington, VA 22230. Telephone: (703) 292-7263.

Agenda: To review and evaluate DRMS proposals as part of the selection process for awards.

Type of Meetings: Closed.

Purpose of Meetings: To provide advice and recommendations concerning support for research proposals submitted to the NSF for financial support.

Reason for Closings: The proposals being reviewed include information of a proprietary or confidential nature, including technical information; financial data, such as salaries; and personal information concerning individuals associated with the proposals. These matters are exempt under 5 U.S.C. 552b(c), (4) and (6) of the Government in the Sunshine Act.

Dated: September 27, 2000.
Karen J. York,
Committee Management Officer.

[FR Doc. 00-25207 Filed 9-29-00; 8:45 am]

BILLING CODE 7555-01-M